ENVIRONMENTAL PROTECTION AGENCY

[ER-FRL-9004-8]

Environmental Impacts Statements; Notice of Availability

Responsible Agency: Office of Federal Activities, General Information (202) 564-7146 or http://www.epa.gov/compliance/nepa/.

Weekly receipt of Environmental Impact Statements

Filed 08/20/2012 Through 08/24/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: Starting October 1, 2012, EPA will not accept paper copies or CDs of EISs for filing purposes; all submissions on or after October 1, 2012 must be made through e-NEPA. While this system eliminates the need to submit paper or CD copies to EPA to meet filing requirements, electronic submission does not change requirements for distribution of EISs for public review and comment. To begin using e-NEPA, you must first register with EPA's electronic reporting site— https://cdx.epa.gov/epa_home.asp.

EIS No. 20120276, Final EIS, BLM, CA, Bakersfield Proposed Resource Management Plan, Madera, San Luis Obispo, Santa Barbara, Ventura, Kings, Tulare, Fresno, and Kern Counties, CA, Review Period Ends: 10/01/2012, Contact: Sue Porter 661-391-6067.

EIS No. 20120277, Final EIS, NPS, 00, Appalachian National Scenic Trail, Delaware Water Gap National Recreation Area, Middle Delaware National Scenic and Recreational River, Susquehanna to Roseland 500kV Transmission Line Right-of-Way and Special-Use-Permit, NJ and PA, Review Period Ends: 10/01/2012, Contact: Morgan Elmer 303-969-2317.

EIS No. 20120278, Draft EIS, USN, CA, LEGISLATIVE—Renewal of the Chocolate Mountain Aerial Gunnery Range Land Withdrawal, Imperial and Riverside Counties, CA, Comment Period Ends: 11/30/2012, Contact: Kelly Finn 619-532-4452.

EIS No. 20120279, Draft EIS, VA, CA, San Francisco Veterans Affairs Medical Center (SFVAMC) Long Range Development Plan, Implementation, Fort Miley, San Francisco County, CA, Comment Period Ends: 10/16/2012, Contact: Allan Federman 415-221-4810.

EIS No. 20120280, Draft EIS, BIA, FL, Seminole Tribe of Florida Fee-to-Trust, Development of a Hotel/Resort and Retail Center of the Site, Coconut Creek, Broward County, FL, Comment Period Ends: 10/15/2012, Contact: Chester McGhee 615-564-6830.

EIS No. 20120281, Final EIS, USFWS, CA, Santa Clara Valley Habitat Conservation Plan, Issuance of an Incidental Take Permit, Santa Clara County, CA, Review Period Ends: 10/01/2012 Contact: Mike Thomas 916-414-6600.

EIS No. 20120282, Final EIS, NRC, NM, Fluoride Extraction Process and Depleted Uranium Deconversion Plant, License Application to Construct, Operate, and Decommission Phase 1, Lea County, NM, Review Period Ends: 10/01/2012, Contact: Asimios Malliakos 301-415-6458.

EIS No. 20120283, Final EIS, FRA, VA, Richmond and the Hampton Roads Passenger Rail Project, Tier I Proposed Higher Speed Intercity Passenger Rail Service Improvements, VA, Review Period Ends: 10/01/2012, Contact: John Winkle 202-493-6067.

EIS No. 20120284, Draft EIS, USFS, CO, White River National Forest Oil and Gas Leasing, Eagle, Garfield, Gunnison, Mesa, Moffat, Pitkin, Rio Blanco, Routt, and Summit Counties, CO, Comment Period Ends: 10/30/2012, Contact: David Francomb 970-963-2266, ext. 3136.

EIS No. 20120285, Draft Supplement, FHWA, CA, Interstate 5 North Coast Corridor Project, Construction of Improvements, from La Jolla Village Drive in San Diego to Harbor Drive in Oceanside/Camp Pendleton, New Information, San Diego County, CA, Comment Period Ends: 10/15/2012, Contact: Manuel E. Sanchez 619-699-7336.

Amended Notices

EIS No. 20120274, Draft EIS, USFS, AZ, Prescott National Forest Land and Resource Management Plan, Yavapai and Coconino Counties, AZ, Comment Period Ends: 11/28/2012, Contact: Mary C. Rasmussen 928-443-8265. Revision to FR Notice Published 08/24/2012; Change Comment Period Ending 10/08/2012 to 11/28/2012.

EIS No. 20120275, Draft EIS, USFS, MT, Wild Cramer Forest Health and Fuels Reduction Project, Swan Lake Ranger District, Flathead National Forest, Flathead County, MT, Comment Period Ends: 10/09/2012, Contact: Richard Kehr 406-837-7500. Revision to FR Notice Published 08/24/2012; Change Comment Period Ending 10/08/2012 to 10/09/2012.

Dated: August 28, 2012.
Cliff Rader,
Director, NEPA Compliance Division, Office of Federal Activities.

[FR Doc. 2012-21568 Filed 8-30-12; 8:45 am]

BILLING CODE 6560-50-P